DEPARTMENT OF ENERGY

Federal Energy Regulatory Commission

Combined Notice of Filings #2

Take notice that the Commission received the following electric corporate filings:

Docket Numbers: EC12-75-000.

Applicants: Iberdrola Finance UK Limited, Central Maine Power Company, Maine Electric Power Company, New York State Electric & Gas Corporation, Rochester Gas and Electric Corporation.

Description: Section 203 Application of Central Maine Power Company, et al.

Filed Date: 2/23/12.

Accession Number: 20120223-5064.

Comments Due: 5 p.m. ET 3/15/12.

Take notice that the Commission received the following exempt wholesale generator filings:

Docket Numbers: EG12-34-000.

Applicants: High Majestic Wind II, LLC.

Description: Notice of Self-Certification of Exempt Wholesale Generator Status of High Majestic Wind II, LLC.

Filed Date: 2/23/12.

Accession Number: 20120223-5074.

Comments Due: 5 p.m. ET 3/15/12.

Take notice that the Commission received the following electric rate filings:

Docket Numbers: ER12-1146-000.

Applicants: Kentucky Utilities Company.

Description: 02_23_12 KU Errata Filing to be effective 2/24/2012.

Filed Date: 2/23/12.

Accession Number: 20120223-5054.

Comments Due: 5 p.m. ET 3/15/12.

Docket Numbers: ER12-1147-000.

Applicants: Wabash Valley Power Association, Inc.

Description: Notice of Cancellation of Vermillion Rate Schedule to be effective 1/12/2012.

Filed Date: 2/23/12.

Accession Number: 20120223-5065.

Comments Due: 5 p.m. ET 3/15/12.

Docket Numbers: ER12-1148-000.

Applicants: KODA Energy, LLC.

Description: KODA Energy MBR Tariff to be effective 2/23/2012.

Filed Date: 2/23/12.

Accession Number: 20120223-5068.

Comments Due: 5 p.m. ET 3/15/12.

Docket Numbers: ER12-1149-000.

Applicants: Southwest Power Pool, Inc.

Description: 1636R7 Kansas Electric Power Cooperative, Inc. NITSA NOA to be effective 2/1/2012.

Filed Date: 2/23/12.

Accession Number: 20120223-5069.

Comments Due: 5 p.m. ET 3/15/12.

Docket Numbers: ER12-1150-000.

Applicants: Southern Company Services, Inc.

Description: Southern Company Services, Inc.'s Notice of Termination of Longleaf LGIA.

Filed Date: 2/23/12.

Accession Number: 20120223-5081.

Comments Due: 5 p.m. ET 3/15/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2012.
Nathaniel J. Davis, Sr.,
Deputy Secretary.

[FR Doc. 2012-5066 Filed 3-1-12; 8:45 am]

BILLING CODE 6717-01-P